DEPARTMENT OF HEALTH AND HUMAN SERVICES

Centers for Disease Control and Prevention

Rescission of the Requirement for Airlines To Collect Designated Information for Passengers Destined for the United States Who Are Departing From, or Were Otherwise Present in the Republic of Guinea

AGENCY: Centers for Disease Control and Prevention (CDC), Department of Health and Human Services (HHS).

ACTION: Notice.

SUMMARY: The Centers for Disease Control and Prevention (CDC), located within the Department of Health and Human Services (HHS), announces the rescission of the Agency Order that was signed on March 2, 2021 and became effective on March 4, 2021 requiring the collection of certain passenger contact information (full name, address while in the United States, primary contact phone number, secondary or emergency contact phone number, and email address) of passengers who are departing from, or were otherwise present in, the Republic of Guinea. This contact information was necessary to facilitate timely public health follow-up.

DATES: This rescission goes into effect beginning 12:01 a.m. Eastern Daylight Time on May 14, 2021.

FOR FURTHER INFORMATION CONTACT: Jennifer Buigut, Division of Global Migration and Quarantine, Centers for Disease Control and Prevention, 1600 Clifton Road NE, MS H16-4, Atlanta, GA 30329. Email: dgmqpolicyoffice@cdc.gov. Phone: 770-488-4552.

SUPPLEMENTARY INFORMATION: In February 2021, outbreaks of Ebola virus disease (Ebola) were identified in the Republic of Guinea (Guinea) and the Democratic Republic of the Congo (DRC). CDC issued an Order on March 2, 2021 requiring airlines to collect and transmit to CDC contact information for passengers who were in Guinea or DRC within the 21 days before their arrival or attempted arrival in the United States. This Order became effective on March 4, 2021. (86 FR 12685, March 4, 2021).

On April 29, 2021, as there were no new cases reported in the prior 42 days, no remaining hospitalized patients with Ebola, and no contacts of confirmed Ebola cases still requiring monitoring in the DRC, CDC rescinded all requirements of the March 2, 2021 Order pertaining to DRC; however, the requirements pertaining to Guinea remained in effect.

Since April 3, 2021, there have been no new confirmed Ebola cases reported in Guinea and all contacts of cases that were being monitored have passed the 21-day incubation period. CDC has determined that airline travelers destined for the United States who are departing from, or were otherwise present in, Guinea in the past 21 days are no longer at risk of exposure to Ebola virus. Therefore, the March 2, 2021 Order is rescinded in its entirety as of 12:01 a.m. Daylight Saving Time May 14, 2021.

Authority: This Notice is issued pursuant to Sections 361 and 365 of the Public Health Service Act, 42 U.S.C. 264 and 268, and implementing regulations at 42 CFR 71.4, 71.20, 71.31, and 71.32.

Dated: May 13, 2021.
Rochelle Walensky,
Director, Centers for Disease Control and Prevention.

[FR Doc. 2021-10478 Filed 5-13-21; 4:15 pm]

BILLING CODE 4163-18-P